DEPARTMENT OF TRANSPORTATION

Federal Aviation Administration

14 CFR Part 39

[Docket No. FAA-2019-1019; Product Identifier 2018-SW-011-AD; Amendment 39-21264; AD 2020-20-08]

RIN 2120-AA64

Airworthiness Directives; Airbus Helicopters

AGENCY: Federal Aviation Administration (FAA), DOT.

ACTION: Final rule.

SUMMARY: The FAA is adopting a new airworthiness directive (AD) for Airbus Helicopters Model AS332C, AS332C1, AS332L, AS332L1, AS332L2, and EC225LP helicopters. This AD requires, depending on helicopter configuration, installing skived polytetrafluoroethylene tape (PTFE tape) or removing PTFE tape and replacing window seals. This AD also prohibits the installation of a jettisonable cabin window unless the applicable requirements are accomplished. This AD was prompted by a report of excessive friction between the window seal and the helicopter airframe. The actions of this AD are intended to address an unsafe condition on these products.

DATES: This AD is effective December 11, 2020.

The Director of the Federal Register approved the incorporation by reference of certain documents listed in this AD as of December 11, 2020.

ADDRESSES: For service information identified in this final rule, contact Airbus Helicopters, 2701 N. Forum Drive, Grand Prairie, TX 75052; telephone 972-641-0000 or 800-232-0323; fax 972-641-3775; or at https://www.airbus.com/helicopters/services/technical-support.html. You may view this referenced service information at the FAA, Office of the Regional Counsel, Southwest Region, 10101 Hillwood Pkwy., Room 6N-321, Fort Worth, TX 76177. It is also available on the internet at https://www.regulations.gov by searching for and locating Docket No. FAA-2019-1019.

Examining the AD Docket

You may examine the AD docket on the internet at https://www.regulations.gov by searching for and locating Docket No. FAA-2019-1019; or in person at Docket Operations between 9 a.m. and 5 p.m., Monday through Friday, except Federal holidays. The AD docket contains this AD, the European Union Aviation Safety Agency (EASA) AD, any service information that is incorporated by reference, any comments received, and other information. The address for Docket Operations is U.S. Department of Transportation, Docket Operations, M-30, West Building Ground Floor, Room W12-140, 1200 New Jersey Avenue SE, Washington, DC 20590.

FOR FURTHER INFORMATION CONTACT: Matt Fuller, AD Program Manager, Operational Safety Branch, Airworthiness Products Section, General Aviation and Rotorcraft Unit, FAA, 10101 Hillwood Pkwy., Fort Worth, TX 76177; telephone 817-222-5110; email matthew.fuller@faa.gov.

SUPPLEMENTARY INFORMATION:

Discussion

The FAA issued a notice of proposed rulemaking (NPRM) to amend 14 CFR part 39 by adding an AD that would apply to Airbus Helicopters Model AS332C, AS332C1, AS332L, AS332L1, AS332L2, and EC225LP helicopters. The NPRM published in the Federal Register on January 6, 2020 (85 FR 469). For all of the specified helicopter models without Modification (MOD) 332P087140.00 installed, the NPRM proposed to require installing PTFE tape to each jettisonable cabin window frame. For some of the specified helicopter models with MOD 332P087140.00 installed, the NPRM proposed to require removing the PTFE tape, if installed, from each jettisonable cabin window and replacing each VIP jettisonable cabin window polychloroprene seal with a silicone seal. The NPRM also proposed to prohibit the installation of a jettisonable cabin window unless the applicable required actions were accomplished.

The NPRM was prompted by EASA AD No. 2018-0039, dated February 9, 2018, and corrected March 7, 2018 (EASA AD 2018-0039), issued by EASA, which is the Technical Agent for the Member States of the European Union, to correct an unsafe condition for Airbus Helicopters (formerly Eurocopter, Eurocopter France, Aerospatiale) Model AS 332 C, AS 332 C1, AS 332 L, AS 332 L1, AS 332 L2, and EC 225 LP helicopters. EASA advises of an emergency exit window that required excessive pushing force to jettison. According to EASA, an investigation revealed the window seal was in good condition with no indication of paint contamination or of hardening. EASA advises that the root cause of the incident was excessive friction between the window seal and the airframe. EASA further advises that helicopters with VIP jettisonable cabin windows, which corresponds to MOD 332P087140.00, with PTFE skived film installed, require greater force to jettison than standard jettisonable cabin windows with PTFE skived film installed due to the thickness of the VIP jettisonable cabin windows.

EASA states if this condition is not corrected, it could prevent the window from jettisoning, subsequently affecting the evacuation of passengers during an emergency situation. To address this unsafe condition, EASA AD 2018-0039 requires installing PTFE skived film on the window frames of helicopters with standard jettisonable cabin windows, and removing PTFE skived film and replacing polychloroprene seals with silicone seals on the window frames of helicopters with VIP jettisonable cabin windows.

Actions Since the NPRM Was Issued

After the NPRM was issued, EASA issued AD No. 2020-0061, dated March 17, 2020 (EASA AD 2020-0061), for Airbus Helicopters Model AS 332 L2 helicopters without MOD 07 28630, 332P087142.00, or 332P087140.00 installed and Model EC 225 LP helicopters without MOD 07 28370, 332P087140.00, 332P087142.00, 332P087142.03, 332P087142.06, 332A087149.00, or 332A087149.03 installed. EASA AD 2020-0061 requires modifying the window jettisoning system by removing the PTFE skived film between the window seal and the helicopter airframe and installing silicone seals. The FAA plans to publish a separate rulemaking to address the unsafe condition in EASA AD 2020-0061. Further, EASA AD 2020-0061 advises that it is expected that Airbus Helicopters will also develop similar MODs for helicopters affected by EASA AD 2018-0039, which is the subject of this AD action. Accordingly, certain configurations of Model AS332L2 and EC225LP helicopters have been removed from the applicability and this Final Rule is an interim action.

Also after the NPRM was issued, EASA issued EASA AD No. 2018-0039R1, dated September 25, 2020 (EASA AD 2018-0039R1), to revise EASA AD 2018-0039. EASA AD 2018-0039R1 advises that Airbus Helicopters developed various modifications and corresponding Alert Service Bulletins (ASBs) for the window jettison system, which restore the window jettison system's performance to the approved design standard. Accordingly, EASA AD 2018-0039R1 excludes certain model helicopters with the modifications installed from the applicability.

Additionally, after the NPRM was published, Airbus Helicopters revised the service information listed in the NPRM.

Accordingly, the applicability, required actions, and the related service information have been updated in this Final Rule to reflect the updated revisions. These changes are consistent with the intent of the proposals in NPRM and do not increase the economic burden on any operator nor increase the scope of this AD.

Comments

The FAA gave the public the opportunity to participate in developing this AD, but the FAA did not receive any comments on the NPRM.

FAA's Determination

These helicopters have been approved by EASA and are approved for operation in the United States. Pursuant to the FAA's bilateral agreement with the European Union, EASA has notified the FAA of the unsafe condition described in its AD. The FAA is issuing this AD after evaluating all information provided by EASA and determining the unsafe condition exists and is likely to exist or develop on other helicopters of these same type designs and that air safety and the public interest require adopting the AD requirements as proposed except for reducing the applicability, updating the service information, and updating the Cost of Compliance section due to an increase in the number of registered helicopters. These changes are consistent with the intent of the proposals in the NPRM and will neither increase the economic burden on any operator nor increase the scope of this AD.

Interim Action

The FAA considers this AD interim action. The design approval holder is currently developing a modification that will address the unsafe condition identified in this AD. Once this modification is developed, approved, and available, the FAA might consider additional rulemaking.

Differences Between This AD and the EASA AD

The EASA AD allows compliance within 250 hours time-in-service (TIS) for helicopters that do not operate over water. This AD requires compliance within 110 hours TIS for all helicopters, regardless of where they operate.

Related Service Information Under 1 CFR Part 51

The FAA reviewed Airbus Helicopters ASB No. AS332-05.01.05 for Model AS332C, AS332C1, AS332L, AS332L1, and AS332L2 helicopters, and ASB No. EC225-05A046 for Model EC225LP helicopters, both Revision 1 and dated February 8, 2018. This service information applies to helicopters without VIP jettisonable cabin window MOD 332P087140.00 installed. This service information specifies applying PTFE film to the jettisonable cabin window frames. The FAA also reviewed ASB No. AS332-05.01.05 for Model AS332C, AS332C1, AS332L, AS332L1, and AS332L2 helicopters, and ASB No. EC225-05A046 for Model EC225LP helicopters, Revision 2, dated April 10, 2019, and Revision 3, dated February 10, 2020. Revisions 2 and 3 contain the same procedures as Revision 1, except Revisions 2 and 3 cancel compliance for helicopters with certain modifications. The FAA reviewed Airbus Helicopters ASB No. AS332-05.01.05, Revision 4, dated September 23, 2020, which contains exceptions for compliance for certain helicopters with POST MOD 0728630, 332P087142.09, or 332P087142.12.

The FAA reviewed Airbus Helicopters ASB No. AS332-56.90.13 for Model AS332L2 helicopters, and ASB No. EC225-56C012 for Model EC225LP helicopters, both Revision 0 and dated February 2, 2018. This service information applies to helicopters with VIP jettisonable cabin window MOD 332P087140.00 installed. This service information specifies removing the PTFE film, if installed between the VIP cabin window frame and seal, from the VIP jettisonable cabin windows, and replacing the VIP jettisonable cabin window polychloroprene seals with silicone seals.

This service information is reasonably available because the interested parties have access to it through their normal course of business or by the means identified in the ADDRESSES section.

Other Related Service Information

The FAA reviewed Airbus Helicopters Information Notice No. 3012-I-05, Revision 0, dated March 8, 2016, for Model AS332C, AS332C1, AS332L, AS332L1, AS332L2, and EC225LP helicopters. This service information provides additional information pertaining to the jettisonable window system and the application of PTFE film to the jettisonable window frames. This service information also advises that VIP windows are thicker and stiffer than serial design windows and are subsequently more difficult to jettison than standard cabin windows.

The FAA reviewed Airbus Helicopters ASB No. AS332-56.90.14, Revision 0, dated April 10, 2019, Airbus Helicopters ASB No. AS332-56.00.16, Revision 0, dated February 10, 2020. The FAA also reviewed Airbus Helicopters ASB No. AS332-56.00.18, Revision 0, Airbus Helicopters ASB No. AS332-56.00.20, Revision 0, and Airbus Helicopters ASB No. AS332-56.00.21, Revision 0, all dated September 23, 2020. The FAA reviewed Airbus Helicopters ASB No. EC225-56A013, Revision 1, Airbus Helicopters ASB No. EC225-56A015, Revision 0, Airbus Helicopters ASB No. EC225-56A016, Revision 0, and Airbus Helicopters ASB No. EC225-56A017, Revision 0, all dated February 10, 2020. This service information provides additional information pertaining to the jettisonable window system and the application of PTFE film to the jettisonable window frames.

Costs of Compliance

The FAA estimates that this AD affects approximately 39 helicopters of U.S. Registry. The FAA estimates that operators may incur the following costs in order to comply with this AD. Labor costs are estimated at $85 per work-hour.

Depending on your model helicopter and configuration, installing PTFE tape takes about 8 work-hours and parts cost about $92, for an estimated cost of $772 per helicopter and approximately $30,108 for the U.S. fleet.

There are no costs of compliance with removing the PTFE tape and replacing the seals because there are no helicopters with a serial number identified by Airbus Helicopters with MOD 332P087140.00 installed on the U.S. Registry.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2020-20-08 Airbus Helicopters: Amendment 39-21264; Docket No. FAA-2019-1019; Product Identifier 2018-SW-011-AD.

(a) Applicability

This Airworthiness Directive (AD) applies to Airbus Helicopters Model AS332C, AS332C1, AS332L, AS332L1, AS332L2, and EC225LP helicopters, certificated in any category, except:

(1) Airbus Helicopters Model AS332C, AS332C1, AS332L, and AS332L1 helicopters with Modification (MOD) 07 28630, MOD 332P087142.09, or MOD 332P087142.12 installed,

(2) Airbus Helicopters Model AS332L2 helicopters with MOD 07 28630 or 332P087142.00 installed, and

(3) Airbus Helicopters Model EC225LP helicopters with MOD 07 28370, 332A087149.00, 332A087149.03, 332P087142.00, 332P087142.03, or 332P087142.06 installed.

(b) Unsafe Condition

This AD defines the unsafe condition as excessive friction between the jettisonable cabin window and the airframe. This condition could result in the window failing to jettison, preventing occupants from exiting the helicopter during an emergency.

(c) Effective Date

This AD becomes effective December 11, 2020.

(d) Compliance

You are responsible for performing each action required by this AD within the specified compliance time unless it has already been accomplished prior to that time.

(e) Required Actions

Within 110 hours time-in-service:

(1) For Model AS332C, AS332C1, AS332L, and AS332L1 helicopters; and Model AS332L2 and EC225LP helicopters without MOD 332P087140.00 installed, install skived polytetrafluoroethylene tape (PTFE tape) to each jettisonable cabin window frame by following the Accomplishment Instructions, paragraph 3.B.2., of Airbus Helicopters Alert Service Bulletin (ASB) No. AS332-05.01.05 or ASB No. EC225-05A046, both Revision 1 and dated February 8, 2018; or both Revision 2, dated April 10, 2019; or both Revision 3, dated February 10, 2020, or ASB No. AS332-05.01.05, Revision 4, dated September 23, 2020, as applicable to your model helicopter.

(2) For Model AS332L2 and EC225LP helicopters with MOD 332P087140.00 installed:

(i) Remove the PTFE tape, if installed between the VIP cabin window frame and seal, from each jettisonable cabin window by following the Accomplishment Instructions, paragraph 3.B.2., of Airbus Helicopters ASB No. AS332-56.90.13 (ASB AS332-56.90.13) or ASB No. EC225-56C012 (ASB EC225-56C012), both Revision 0 and dated February 8, 2018, as applicable to your model helicopter.

(ii) Replace each VIP jettisonable cabin window polychloroprene seal with a silicone seal by following the Accomplishment Instructions, paragraph 3.B.3., of ASB AS332-56.90.13 or ASB EC225-56C012, as applicable to your model helicopter.

Note 1 to paragraph (e)(2): Airbus Helicopters has identified the following helicopters as having MOD 332P087140.00 installed: Model AS332L2 serial numbers (S/Ns) 2388, 2390, 2565, 2573, 2577, 2578, and 2587; and Model EC225LP S/Ns 2600, 2623, 2645, 2650, 2651, 2653, 2659, 2684, 2693, 2711, 2712, 2719, 2753, 2756, 2767, 2796, 2926, 2961, 2973, 2974, 2979, 3002, 3003, and 3012.

(3) After the effective date of this AD, do not install a jettisonable cabin window unless you comply with the requirements of paragraph (e)(1) or (e)(2) of this AD, as applicable to your model helicopter and configuration.

(f) Alternative Methods of Compliance (AMOCs)

(1) The Manager, Rotorcraft Standards Branch, FAA, may approve AMOCs for this AD. Send your proposal to: Matt Fuller, AD Program Manager, Operational Safety Branch, Airworthiness Products Section, General Aviation and Rotorcraft Unit, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(g) Additional Information

(1) Airbus Helicopters Information Notice No. 3012-I-05, Revision 0, dated March 8, 2016, Airbus Helicopters ASB No. AS332-56.90.14, Revision 0, dated April 10, 2019, Airbus Helicopters ASB No. AS332-56.00.16, Revision 0, dated February 10, 2020, Airbus Helicopters ASB No. AS332-56.00.18, Revision 0, Airbus Helicopters ASB No. AS332-56.00.20, Revision 0, and Airbus Helicopters ASB No. AS332-56.00.21, Revision 0, all dated September 23, 2020, Airbus Helicopters ASB No. EC225-56A013, Revision 1, Airbus Helicopters ASB No. EC225-56A015, Revision 0, Airbus Helicopters ASB No. EC225-56A016, Revision 0, and Airbus Helicopters ASB No. EC225-56A017, Revision 0, all dated February 10, 2020, which are not incorporated by reference, contains additional information about the subject of this AD. For service information identified in this AD, contact Airbus Helicopters, 2701 N Forum Drive, Grand Prairie, TX 75052; telephone 972-641-0000 or 800-232-0323; fax 972-641-3775; or at https://www.airbus.com/helicopters/services/technical-support.html. You may view the referenced service information at the FAA, Office of the Regional Counsel, Southwest Region, 10101 Hillwood Pkwy., Room 6N-321, Fort Worth, TX 76177.

(2) The subject of this AD is addressed in European Union Aviation Safety Agency (EASA) AD No. 2018-0039R1, dated September 25, 2020. You may view the EASA AD on the internet at https://www.regulations.gov in Docket No. FAA-2019-1019.

(h) Subject

Joint Aircraft Service Component (JASC) Code: 6320, Main Rotor Gearbox.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Helicopters Alert Service Bulletin (ASB) No. AS332-05.01.05, Revision 1, dated February 8, 2018.

(ii) Airbus Helicopters ASB No. AS332-05.01.05, Revision 2, dated April 10, 2019.

(iii) Airbus Helicopters ASB No. AS332-05.01.05, Revision 3, dated February 10, 2020.

(iv) Airbus Helicopters ASB No. AS332-05.01.05, Revision 4, dated September 23, 2020.

(v) Airbus Helicopters ASB No. AS332-56.90.13, Revision 0, dated February 8, 2018.

(vi) Airbus Helicopters ASB No. EC225-05A046, Revision 1, dated February 8, 2018.

(vii) Airbus Helicopters ASB No. EC225-05A046, Revision 2, dated April 10, 2019.

(viii) Airbus Helicopters ASB No. EC225-05A046, Revision 3, dated February 10, 2020.

(ix) Airbus Helicopters ASB No. EC225-56C012, Revision 0, dated February 8, 2018.

(3) For service information identified in this AD, contact Airbus Helicopters, 2701 N. Forum Drive, Grand Prairie, TX 75052; telephone 972-641-0000 or 800-232-0323; fax 972-641-3775; or at https://www.airbus.com/helicopters/services/technical-support.html.

(4) You may view this service information at the FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on November 2, 2020.
Gaetano A. Sciortino,
Deputy Director for Strategic Initiatives, Compliance & Airworthiness Division, Aircraft Certification Service.

[FR Doc. 2020-24626 Filed 11-5-20; 8:45 am]

BILLING CODE 4910-13-P